DEPARTMENT OF TRANSPORTATION

Federal Aviation Administration

Office of Commercial Space Transportation; Notice of Availability and Request for Comment on the Draft Programmatic Environmental Impact Statement for Streamlining the Processing of Experimental Permit Applications

AGENCY: Federal Aviation Administration (FAA), Department of Transportation.

ACTION: Notice of availability and request for comment.

SUMMARY: In accordance with the National Environmental Policy Act of 1969, as amended (NEPA) (42 U.S.C. 4321 et seq.), Council on Environmental Quality NEPA implementing regulations (40 CFR parts 1500-1508), and FAA Order 1050.1E, Change 1, the FAA is announcing the availability of and requesting comments on the Draft Programmatic Environmental Impact Statement for Streamlining the Processing of Experimental Permit Applications (PEIS). The FAA Office of Commercial Space Transportation is the lead Federal agency for the development of the PEIS. The National Aeronautics and Space Administration and the U.S. Air Force are cooperating agencies. Under the Proposed Action evaluated in the PEIS, the FAA would issue experimental permits for the launch and reentry of reusable suborbital rockets from both FAA-licensed and non-licensed launch sites using the PEIS as the basis for determining the potential environmental consequences of issuing experimental permits.

Under the No Action Alternative, the FAA would continue issuing experimental permits for the launch and reentry of reusable suborbital rockets using its present method of analyzing environmental consequences case by case, without tiering from a programmatic document.

The PEIS examines the potential environmental impacts of issuing an experimental permit for the operation of reusable suborbital rockets anywhere in the U.S. and abroad, and the potential site-specific impacts of permitted launches from seven FAA-licensed commercial launch sites: California Spaceport, California; Mojave Air and Space Port, California; Kodiak Launch Complex, Alaska; Mid-Atlantic Regional Spaceport, Virginia; Space Florida Launch Complex-46 at Cape Canaveral Air Force Station, Florida; Oklahoma Spaceport, Oklahoma; Spaceport America, New Mexico; and one Federal range, the Shuttle Landing Facility at John F. Kennedy Space Center, Florida.

Subsequent environmental analyses that fall under the scope of the PEIS could tier from this document and incorporate the findings of the PEIS by reference, allowing an applicant and the FAA to focus on the relevant and unique impacts of an experimental permit application. Tiering and incorporation by reference would streamline the development of subsequent environmental analyses in accordance with NEPA and FAA Order 1050.1E.

The PEIS will not authorize the launch or reentry of reusable suborbital rockets from launch sites. Individual launch operators would be required to coordinate with site operators to gain access to a site. In addition, the launch operators would be required to apply to the FAA for an experimental permit, which would require an individual safety and environmental review.

DATES: The public comment period for the NEPA process begins with the publication of the U.S. Environmental Protection Agency's Notice of Availability of the Draft PEIS in the Federal Register. To ensure that all comments can be addressed in the Final PEIS, the FAA must receive comments no later than May 25, 2009.

ADDRESSES: Comments submitted by mail should be addressed to Ms. Stacey M. Zee, FAA Environmental Specialist, FAA Experimental Permits PEIS, c/o ICF International, 9300 Lee Highway, Fairfax, VA 22031. Comments may be submitted via electronic mail to PEIS-Experimental-Permits@icfi.com. Comments also may be submitted via fax to (703) 934-3951.

The Draft PEIS may be viewed at the following locations:

Alaska

Chiniak Public Library, Mile 41, Chiniak, AK 99615.

Kodiak Library, 319 Lower Mill Bay Road, Kodiak, Alaska 99615.

California

Kern County Library, 9507 California City Blvd., California City, CA 93505.

Lompoc Library, 3755 Constellation Rd., Lompoc, CA 93436.

Lompoc Public Library, 501 E North Ave., Lompoc, CA 93436.

Mojave Public Library, 16916-1/2 Highway 14, Mojave, CA 93501.

Florida

Merritt Island Public Library, 1195 North Courtenay Parkway, Merritt Island, FL 32953.

Titusville Public Library, 2121 S. Hopkins Ave., Titusville, FL 32780.

New Mexico

Truth or Consequences Library, 325 Library Lane, Truth or Consequences, NM 87901.

Hatch Public Library, 503 E Hall St., Hatch, NM 87937.

Oklahoma

Clinton Public Library, 721 Frisco Ave., Clinton, OK 73601.

Elk City Carnegie Library, 221 West Broadway, Elk City, OK 73644.

Virginia

Island Library, 4077 Main St., Chincoteague, VA 23336.

Eastern Shore Public Library, 23610 Front St., Accomac, VA 23301.

The FAA also sent the Draft PEIS to interested persons and agencies shown on the distribution list in Chapter 8 of the PEIS. The Draft PEIS, along with the Notice of Intent (NOI) to prepare the Draft PEIS, are available on the Internet in Adobe® portable document format at http://www.faa.gov/about/office_org/headquarters_offices/ast/environmental/review/documents_progress/.

Additional Information: Under the Proposed Action, the FAA would issue experimental permits for the launch and reentry of reusable suborbital rockets from both FAA-licensed and non-licensed launch sites using the PEIS as the basis for determining the potential environmental consequences of issuing experimental permits. An experimental permit would implement the appropriate safety requirements as defined in 14 CFR part 437. A permit would be valid for 1 year and would authorize an unlimited number of launches and reentries of a particular reusable suborbital rocket design from a specified site(s). A permittee could renew the permit by submitting a written application to the FAA for renewal at least 60 days before the permit expired.

Based on the FAA's review of past activities and consultations with various organizations in the commercial space industry, the FAA projected that a maximum of 1,000 launch and reentry events could occur annually at any one location from 2009 to 2014. The FAA used this estimate to develop an upper bound to assess the potential impacts of the Experimental Permit Program. In some cases, the maximum number of events analyzed in the PEIS for specific sites are fewer than 1,000 if the site cannot support all of the flight profiles identified in the PEIS. The estimates used in the PEIS are extremely conservative and the actual number of launches per year would likely be lower.

The PEIS considers activities associated with the launch and reentry of reusable suborbital rockets, including pre-flight activities, flight profile (takeoff, flight, and landing), and post-flight activities (vehicle safing). The general suborbital rocket designs addressed in the PEIS include vehicles resembling conventional aircraft—30 to 140 feet long with unfueled weight of up to 9,921 pounds; vehicles resembling conventional rockets—6 to 33 feet long with unfueled weight of up to 5,500 pounds; and vehicles that hover—up to 20 feet in length or diameter with unfueled weight of up to 4,400 pounds. To assess potential impacts of the Experiment Permit Program, the PEIS also considers the approximate proportions of general reusable suborbital rocket flight profiles, as follows: (1) Horizontal takeoff (rocket or jet powered), flight, and horizontal landing (glide or jet powered); (2) vertical takeoff (rocket powered), flight, and vertical landing (rocket powered or parachute); and (3) rocket powered hovering flights (vertical takeoff and landing).

The PEIS analyzes the potential environmental effects of permitted launches on the impact categories described in FAA Order 1050.1E, Change 1. The PEIS does not analyze environmental consequences specific to construction because the Proposed Action and No Action Alternative do not involve construction activities. The PEIS also addresses potential cumulative impacts of the Proposed Action.

FOR FURTHER INFORMATION CONTACT: Ms. Stacey M. Zee, FAA Environmental Specialist, FAA Experimental Permits PEIS, c/o ICF International, 9300 Lee Highway, Fairfax, VA 22031; e-mail PEIS-Experimental-Permits@icfi.com; or fax (703) 934-3951.

Issued in Washington, DC, on March 26, 2009.
Michael McElligott,
Manager, Space Systems Development Division.

[FR Doc. E9-7913 Filed 4-9-09; 8:45 am]

BILLING CODE 4910-13-P